DEPARTMENT OF THE INTERIOR

National Park Service

[NPS-SERO-FOPU-13991; PX.P0072916D.OO.1]

Record of Decision for the General Management Plan/Wilderness Study, Fort Pulaski National Monument, Georgia

AGENCY: National Park Service, Interior.

ACTION: Notice of availability.

SUMMARY: Pursuant to the National Environmental Policy Act of 1969, 42 U.S.C. 4332(2)(C), the National Park Service (NPS) announces the availability of the Record of Decision (ROD) for the General Management Plan/Wilderness Study (GMP/WS) for Fort Pulaski National Monument (national monument). On September 30, 2013, the Regional Director, Southeast Region, approved the ROD for the project.

FOR FURTHER INFORMATION CONTACT: Superintendent Melissa Memory, Fort Pulaski National Monument, Box 30757, U.S. Hwy 80 East Savannah GA 31410-0757; telephone (912) 786-5787.

SUPPLEMENTARY INFORMATION: The NPS evaluated three alternatives for managing use and development of the national monument in the GMP/WS/FEIS, Alternative A—no action Alternative, and two action Alternatives. The preferred alternative (Alternative B) from the GMP/WS/FEIS is the alternative selected for implementation. Alternative B emphasizes to a high degree the restoration, preservation, and interpretation of historic landscapes and viewsheds of the site (by selected removal of vegetation) for the purpose of providing visitors a greater understanding of the siege and reduction of Fort Pulaski in 1862. The visitor center parking lot will be removed and the site returned to the approximate landscape condition that existed during the principal period of significance (April 1862). The visitor center parking lot will be relocated to a site near the visitor center but outside the viewshed from the top of the fort. The relocated parking lot will be just as near to the visitor center and just as accessible as the current one. The national monument proposes to construct a visitor center annex designed for park visitors, school groups, and staff. This structure will be designed to be technologically current and environmentally friendly and sustainable. In addition to having telecommunications network capabilities, it will provide connections for computers, technical, and audio/visual equipment. This, in addition to the space itself, will make the building ideal for both educational and interpretive programs, lectures, public presentations, staff meetings, staff training, and video conferencing. As part of the general management plan process, the National Park Service conducted a wilderness eligibility assessment to determine whether any lands at Fort Pulaski National Monument are eligible for inclusion in the national wilderness preservation system. This assessment identified approximately 4,500 acres of eligible land within the monument boundary. Under the preferred alternative, all lands identified as eligible in the wilderness eligibility assessment are proposed for designation as wilderness, except for those lands within 100 feet of the edge of the right-of-way of U.S. Highway 80. If finalized and approved by Congress, this proposal will result in approximately 4,500 acres of salt marsh receiving permanent protection as wilderness.

The selected action will provide a comprehensive monument-wide approach to resource and visitor use management. Specific management zones detailing acceptable resource conditions, visitor experience, use levels, appropriate activities and development will be applied to monument lands consistent with this concept. The selected action will continue most current cultural and natural resource management and preservation activities as well as visitor programs and opportunities. The GMP will guide the management of the monument over the next 20+ years.

The responsible official for this FEIS/GMP is the Regional Director, NPS Southeast Region, 100 Alabama Street SW., 1924 Building, Atlanta, Georgia 30303.

Dated: November 18, 2013.
Sherri L. Fields,
Deputy Regional Director, Southeast Region.

[FR Doc. 2013-30257 Filed 12-18-13; 8:45 am]

BILLING CODE 4310-JD-P